NUCLEAR REGULATORY COMMISSION

[Docket Nos. 52-018 and 52-019; NRC-2008-0170]

Duke Energy Carolinas, LLC; William States Lee III Nuclear Station, Units 1 and 2; Combined Licenses Application Review

AGENCY: Nuclear Regulatory Commission.

ACTION: Final environmental impact statement; availability.

SUMMARY: Notice is hereby given that the U.S. Nuclear Regulatory Commission (NRC) and the U.S. Army Corps of Engineers, Charleston District, as a cooperating agency, have published NUREG-2111, “Final Environmental Impact Statement [EIS] for Combined Licenses (COLs) for William States Lee III Nuclear Station Units 1 and 2.”

ADDRESSES: Please refer to Docket ID NRC-2008-0170 when contacting the NRC about the availability of information regarding this document. You may access publicly-available information related to this action by the following methods:

• Federal Rulemaking Web site: Go to http://www.regulations.gov and search for Docket ID NRC-2008-0170. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The three volumes of the final EIS are available electronically in ADAMS under Accession Nos. ML13340A005, ML13340A006, and ML13340A007.

• NRC's PDR: You may examine and purchase copies of public documents at the NRC's PDR, Room O1-F21, One White Flint North, 11555 Rockville Pike, Rockville, Maryland 20852.

In addition, the final EIS may be accessed online at the NRC's William States Lee III Nuclear Station—specific Web page at: www.nrc.gov/reading-rmm/doc-collections/nuregs/staff/sr2111/. The Cherokee County Library located at 300 East Rutledge Avenue, Gaffney, SC 29340, has also agreed to make the final EIS available to the public.

FOR FURTHER INFORMATION CONTACT: Ms. Patricia Vokoun, Office of New Reactors, U.S. Nuclear Regulatory Commission, Washington, DC 20555-0001; telephone: 301-415-3470, email: Patricia.Vokoun@nrc.gov.

SUPPLEMENTARY INFORMATION:

Background

The Lee Nuclear Station Site is located in Cherokee County, South Carolina. The application for the COLs was submitted by letter dated December 12, 2007, pursuant to Part 52 of Title 10 of the Code of Federal Regulations (10 CFR). A notice of receipt and availability of the application, which included the environmental report, was published in the Federal Register on February 1, 2008 (73 FR 6218). A notice of acceptance for docketing of the COL application was published in the Federal Register on February 29, 2008 (73 FR 11156). A notice of intent to prepare a draft environmental impact statement (EIS) and to conduct the scoping process was published in the Federal Register on March 20, 2008 (73 FR 15009). A notice of intent to conduct a supplemental scoping process for the supplement to the environmental report was published in the Federal Register on May 24, 2010 (75 FR 28822). The draft environmental impact statement (EIS) was published in the Federal Register on December 21, 2011 (76 FR 79228). The purpose of this notice is to inform the public that the final EIS is available for public inspection.

Dated at Rockville, Maryland, this 17th day of December 2013.
For the Nuclear Regulatory Commission.
Mark S. Delligatti,
Deputy Director, Division of New Reactor Licensing, Office of New Reactors.

[FR Doc. 2013-30530 Filed 12-20-13; 8:45 am]

BILLING CODE 7590-01-P